DEPARTMENT OF HEALTH AND HUMAN SERVICES

National Institutes of Health

Proposed Collection: Comment Request; a Study of Motivations and Deterrents to Blood Donation in the United States

SUMMARY: In compliance with the requirement of section 3506(c)(2)(A) of the Paperwork Reduction Act of 1995, for opportunity for public comment on proposed data collection projects, the National Heart, Lung, and Blood Institute (NHLBI), the National Institutes of Health (NIH), will publish periodic summaries of proposed projects to be submitted to the Office of Management and Budget (OMB) for review and approval.

Proposed Collection

Title: A Study of Motivations and Deterrents to Blood Donation in the United States. Type of Information Collection Request: NEW. Need and Use of Information Collection: There are serious blood shortages in the U.S. and the situation is predicted to worsen unless corrective measures are initiated. Through a randomized, anonymous mail survey of individuals who have donated blood at one of the five blood centers participating in the NHLBI Retrovirus Donor Study (REDS), this study will examine the personal, or intrinsic reasons for choosing to donate blood, as well as external reasons for choosing to donate blood. Donors who do not initially respond to the mail survey will be given the opportunity to complete the survey on a secured website. Comparisons will be made between one-time donors and repeat donors will be premise that repeat donors may have a stronger altruistic impetus for donating than donors who donate less frequently. Donors will be asked about the donation experience, the context in which he/she first donated blood, and questions addressing accessibility to donate. Using the Self-Report Altruism Scale, respondents will rate themselves based on other personal behaviors that are considered to exhibit social responsibility and/or altruism. Additionally, the study will examine possible barriers to donation, such as inconvenience, discomfort, and confidentiality, among donors who have not donated recently. With the majority of the blood supply coming from committed, repeat donors, information regarding why an individual decides to donate, and more importantly, what motivates them to come back, will provide valuable insight on possible strategies to encourage increased donation frequency among the current blood donor population. It is also important to gain perspective on why only 50% of first time donors return to donate again. Without successful recruitment of new regular donors it is impossible to sustain the blood supply and availability. Assessment of possible barriers to donation will provide areas for focusing improvement in the blood donation process. Blood availability continues to be one of the most serious problems facing the healthcare industry and was recently compounded by new Food and Drug Administration regulations regarding deferring donors who had traveled to or lived in the United Kingdom for a cumulative period of 6 months between 1980 and 1996. Data from this survey will provide a valuable perspective for devising strategies to increase blood donation the U.S. These data will be invaluable to NHLBI, FDA, and other government agencies in helping formulate policy for ensuring Americans that safe blood is available when needed. Frequency of Response: Once. Affected Public: Individuals. Type of Respondents: Adult Blood Donors. The annual reporting burden is as follows: Estimated Number of Respondents: 30,000; Estimated Number of Respondents per Respondent: 1; Average Burden Hours Per Response: 0.25; and Estimated Total Annual Burden Hours Requested: 7,500. The annualized cost to respondents is estimated at: $112,500 (based on $15 per hour). There are no Capital Costs to report. There are no Operating or Maintenance Costs to report.

Type of respondents | Estimated number of respondents | Estimated number of respondents per respondent | Average burden hours per response | Estimated total annual burden hours requested
Adult Blood Donors | 30,000 | 1 | 0.25 | 7,500

Request for Comments

Written comments and/or suggestions from the public and affected agencies should address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of approprated automated, electronic, mechanical, or other technological collection techniques or other forms of information technology.

Comments Due Date

Comments regarding this information collection are best assured of having their full effect if received on or before July 30, 2001.

FOR FURTHER INFORMATION CONTRACT: To request more information on the proposed project or to obtain a copy of the data collection plans and instruments, contact Dr. George J. Nemo, Group Leader, Transfusion Medicine, Scientific Research Group, Division of Blood Diseases and Resources, NHLBI, NIH, Two Rockledge Center, Suite 10042, 6701 Rockledge Drive, MSC 7950, Bethesda, MD 20892-7950, or call (301) 435-0075, or e-mail your request to: nemog@nih.gov.

Dated: May 17, 2001.
Donald Christoferson,
Executive Officer, NHLBI.

[FR Doc. 01-13344 Filed 5-25-01; 8:45 am]

BILLING CODE 4140-01-M